DEPARTMENT OF TRANSPORTATION

Coast Guard

[USCG-2001-11242]

National Preparedness for Response Exercise Program

AGENCY: Coast Guard, DOT.

ACTION: Notice; request for public comments on Preparedness for Response Exercise Program (PREP) triennial exercise schedule for 2002, 2003, and 2004.

SUMMARY: The Coast Guard, the Environmental Protection Agency (EPA), the Research and Special Programs Administration (RSPA) and the Minerals Management Service (MMS), in concert with the states, the oil industry, and concerned citizens, developed the Preparedness for Response Exercise Program (PREP). This notice announces the PREP triennial cycle, 2002-2004, requests comments from the public, and requests industry participants to volunteer for scheduled PREP Area exercises.

DATES: Comments and related material must reach the Docket Management Facility on or before March 25, 2002.

ADDRESSES: To make sure that your comments and related material are not entered more than once in the docket, please submit them by only one of the following means:

(1) By mail to the Docket Management Facility, (USCG-2001-11242), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice, or need general information regarding the PREP Program and the schedule, contact Mr. Robert Pond, Office of Response, Plans and Preparedness Division (G-MOR-2), U.S. Coast Guard Headquarters, telephone 202-267-6603, fax 202-267-4065 or e-mail rpond@comdt.uscg.mil. If you have questions on viewing or submitting material to the docket, call Ms. Dorothy Beard, Chief, Dockets, Department of Transportation, telephone 202-366-5149.

SUPPLEMENTARY INFORMATION: The PREP Area exercise schedule and exercise design manuals are available on the Internet at http://www.uscg.mil/hq/g-m/gmhome.htm (see index, then oil response). To obtain a hard copy of the exercise design manual, contact Ms. Melanie Barber at the Research and Special Programs Administration, Office of Pipeline Safety, at 202-366-4560. The 1994 PREP Guidelines booklet is available at no cost by writing or faxing the TASC Dept Warehouse, 3341 Q 75th Avenue, Landover, MD 20785, fax: 301-386-5394. The stock number of the manual is USCG-X0191. Please indicate the quantity when ordering. Quantities are limited to 10 per order.

Request for Comments

We encourage you to participate by submitting comments and related material. If you do so, please include your name and address, identify the docket number [USCG-2001-11242], indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this triennial exercise schedule in view of them.

Background and Purpose

The Coast Guard, EPA, RSPA and MMS developed the National Preparedness for Response Exercise Program (PREP) to provide guidelines for compliance with the Oil Pollution Act of 1990 (OPA 90) pollution response exercise requirements (33 U.S.C. 1321(j)). The guiding principles for PREP distinguish between internal and external exercises. Internal exercises are conducted within the plan holder's organization. External exercises extend beyond the plan holder's organization to involve other members of the response community. External exercises are separated into two categories: (1) Area exercises, and (2) Government-initiated unannounced exercises. These exercises are designed to evaluate the entire response mechanism in a given area to ensure adequate pollution response preparedness.

Since 1994, the USCG, EPA, MMS, and Office of Pipeline Safety (OPS) have published a triennial schedule of Area exercises. In short, the Area exercises involve the entire response community (Federal, State, local, and industry participants) and therefore, require more extensive planning than other oil spill response exercises. The PREP Guidelines describe all of these exercises in more detail. This notice announces the next triennial schedule of Area exercises. If a company wants to volunteer for an Area exercise, a company representative may call either the Coast Guard or EPA On-Scene Coordinator (OSC) where the exercise is scheduled.

The following table is the PREP schedule for calendar years 2002, 2003, and 2004.

Prep Schedule—Government—Led Area Exercises
Area | Agency | Date/qtr¹ | Participant
Calendar Year 2002:
South FL (MSO Miami) | CG | 1
SW LA/SE TX (MSO Morgan City, MSO Port Arthur, Exxon/Mobil & Stolt) | CG SONS ² | 2
Hawaii (MSO Honolulu) | CG | 3
Central CA Coast (MSO San Francisco) | CG | 3
EPA Region VII | EPA | 3
Boston (MSO Boston) | CG | 4
Calendar Year 2003:
Saipan (MSO Guam) | CG | 1
SE Alaska (MSO Juneau) | CG | 2
Philadelphia (MSO Philadelphia) | CG | 3
Savannah (MSO Savannah) | CG | 3
EPA Region II | EPA | 3
Florida Panhandle (MSO Mobile) | CG | 4
Calendar Year 2004:
Charleston, SC (MSO Charleston) | CG | 1
Duluth Superior (MSO Duluth) | CG | 2
SF/LA/LB/San Diego (MSO San Francisco, MSO Los Angeles/Long Beach & MSO San Diego) | CG SONS ² | 2
Prince William Sound (MSO Anchorage) | CG | 3
EPA Region I | EPA | 3
South Texas (MSO Corpus Christi) | CG | 4

Prep Schedule—Industry—Led Area Exercises
Area | Planholder type ³ | Date/qtr ¹ | Participant
Calendar Year 2002:
Tampa (MSO Tampa) | v | 1
Northwest (MSO Puget Sound) | v | 1
South LA/LB (MSO LA/LB) | f(mtr) | 1
EPA Oceania | f(nonmtr) | 1
EPA Region II | p | 2
Eastern Wisconsin (MSO Milwaukee) | v | 3
Detroit (MSO Detroit) | v | 3
Maine/New Hampshire (MSO Portland) | v | 3
Providence (MSO Providence) | v | 3
Virginia Coastal (MSO Hampton Roads) | f(mtr) | 4
Houston/Galveston (MSO Houston/Galveston | p | 4
Alabama/Mississippi (MSO Mobile) | f | 4
EPA Region VI | f(nonmtr) | 4
Calendar Year 2003:
New Orleans (MSO New Orleans) | p | 2
W. Lake Erie (MSO Toledo) | f(nonmtr) | 2
North Coast Area (MSO San Francisco | f(mtr) | 2
EPA Region IV | f(nonmtr) | 2
EPA Region IX | p | 2
Northwest Area (MSO Portland) | v | 3
Eastern Great Lakes (MSO Buffalo) | f(mtr) | 3
Cleveland, OH (MSO Cleveland) | f(mtr) | 3
Caribbean Area (MSO San Juan) | v | 4
Jacksonville (MSO Jacksonville) | v | 4
EPA Region III | f(nonmtr) | 4
Calendar Year 2004:
New York City (Activities NY) | f(mtr) | 1
Southern Coastal NC (MSO Wilmington) | v | 1
Guam (MSO Guam) | v | 1
Long Island Sound (MSO Long Island Sound) | f | 2
EPA Region V | f | 2
EPA Region VII | f(nonmtr) | 2
San Francisco Bay (MSO San Francisco with MSO LA/LB) | tbd SONS ² | 3
Saulte Ste Marie (MSO Saulte Ste Marie) | f | 3
South TX Coastal Zone (MSO Corpus Christi) | v | 3
SW LA / SE Texas (MSO Morgan City) | p | 3
Maryland Coastal CG (Activities Baltimore) | v | 4
Chicago (MSO Chicago) | v | 4
Northwest (MSO Seattle) | v | 4
¹ Quarters: 1 (January-March); 2 (April-June); 3 (July-September); 4 (October-December).
² SONS: Spill of National Significance.
³ Planholder Type: v-vessel; f(mtr)-marine transportation-related facility; f(nonmtr)-nonmarine transportation-related facility; p-pipeline; tbd-to be determined.

Dated: January 10, 2002.
Joseph J. Angelo,
Director of Standards, Marine Safety and Environmental Protection.

[FR Doc. 02-1514 Filed 1-18-02; 8:45 am]

BILLING CODE 4910-15-U